DEPARTMENT OF COMMERCE

National Oceanic and Atmospheric Administration

50 CFR Part 622

RIN 0648-BE70

Fisheries of the Caribbean, Gulf of Mexico and South Atlantic; Snapper-Grouper Fishery off the Southern Atlantic States; Amendment 35

AGENCY: National Marine Fisheries Service (NMFS), National Oceanic and Atmospheric Administration (NOAA), Commerce.

ACTION: Notice of availability; request for comments.

SUMMARY: The South Atlantic Fishery Management Council (Council) has submitted Amendment 35 to the Fishery Management Plan for the Snapper-Grouper Fishery of the South Atlantic Region (FMP) for review, approval, and implementation by NMFS. Amendment 35 would remove black snapper, mahogany snapper, dog snapper, and schoolmaster from the FMP; and clarify the Council's intent regarding the golden tilefish longline endorsement program.

DATES: Written comments must be received on or before April 5, 2016.

ADDRESSES: You may submit comments on Amendment 35 identified by “NOAA-NMFS-2015-0076” by any of the following methods:

• Electronic Submissions: Submit all electronic public comments via the Federal e-Rulemaking Portal: http://www.regulations.gov. Go to www.regulations.gov/#!docketDetail;D=NOAA-NMFS-2015-0076, click the “Comment Now!” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 35 may be obtained from the Southeast Regional Office Web site at http://sero.nmfs.noaa.gov. Amendment 35 includes a draft environmental assessment, a Regulatory Flexibility Act analysis, a Regulatory Impact Review, and a Fishery Impact Statement.

FOR FURTHER INFORMATION CONTACT: Nikhil Mehta, telephone: 727-824-5305; email: nikhil.mehta@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving a plan or amendment, publish an announcement in the Federal Register notifying the public that the plan or amendment is available for review and comment.

The FMP being revised by Amendment 35 was prepared by the Council and implemented through regulations at 50 CFR part 622 under the authority of the Magnuson-Stevens Act.

Actions Contained in Amendment 35

Amendment 35 includes actions to remove black snapper, mahogany snapper, dog snapper, and schoolmaster from the FMP, and to clarify the Council's intent regarding the golden tilefish longline endorsement program.

Remove Four Species From the FMP

Black snapper, mahogany snapper, dog snapper, and schoolmaster are currently in the FMP, but have extremely low landings in state and Federal waters, and almost all harvest (recreational and commercial) occurs in waters off South Florida. Currently, NMFS does not manage these species in Federal waters of the Gulf of Mexico (Gulf); however, these species are subject to regulations in Florida state waters. As described in Amendment 35, there are currently different regulations for recreational bag limits, size limits, and catch levels for these species between the Gulf, South Atlantic, and Florida. Inconsistent regulations make enforcement difficult and may be confusing to the public. Amendment 35 would remove black snapper, mahogany snapper, dog snapper, and schoolmaster from NMFS management in Federal waters of the South Atlantic to ensure that only species requiring Federal management are included in the FMP and to provide consistent regulations for these species across state and Federal jurisdictional boundaries.

Black snapper is part of the deep-water complex within the FMP. The deep-water complex currently includes black snapper, yellowedge grouper, silk snapper, misty grouper, queen snapper, sand tilefish, and blackfin snapper. If black snapper is removed from the FMP, the annual catch limit (ACL) for the deep-water complex would be reduced from 170,279 lb (77,237 kg), round weight, to 169,896 lb (77,063 kg), round weight, a difference of 382 lb (173 kg), round weight.

Dog snapper and mahogany snapper are part of the other snappers complex within the FMP. The other snappers complex currently includes cubera snapper, gray snapper, lane snapper, dog snapper, and mahogany snapper. If dog snapper and mahogany snapper are removed from the FMP, the other snappers complex ACL would be reduced from 1,517,716 lb (688,424 kg), round weight, to 1,513,883 lb (686,688 kg), round weight, a difference of 3,833 lb (1,739 kg), round weight.

Dog snapper, mahogany snapper, and black snapper are not typically targeted by commercial or recreational fishermen; therefore, bycatch associated with harvest of these species is extremely low. Schoolmaster is currently designated as an ecosystem component (EC) species. The Council is not considering retaining dog snapper, mahogany snapper, and black snapper in the FMP as Ecosystem Component (EC) species, because the objective of the amendment is to establish a consistent regulatory environment across the jurisdictional boundaries of Gulf and South Atlantic Federal waters and Florida state waters. NMFS does not manage these species in Gulf Federal waters; therefore, retaining them as EC species would not create consistent regulations across jurisdictional boundaries. Additionally, if these species are designated as EC species, the state of Florida would not be able to extend management authority for them into Federal waters.

A stock assessment has not been performed for any of these species; however, there is no indication these stocks are depleted. Therefore, removing these stocks from the FMP is not expected to result in any adverse biological effects.

Clarify Regulations for Golden Tilefish Endorsement Holders

The final rule for Amendment 18B to the FMP (78 FR 23858, April 23, 2013) established a longline endorsement program for the commercial golden tilefish component of the snapper-grouper fishery. An endorsement is required to fish for golden tilefish with longline gear. Amendment 18B also established a golden tilefish hook-and-line quota and modified the golden tilefish commercial trip limits. The golden tilefish longline endorsement, sector quotas, and trip limits were implemented because the commercial ACL was being harvested rapidly with longline gear, and fishermen who had historically used hook-and-line gear to target golden tilefish were not able to participate in the golden tilefish portion of the snapper-grouper fishery. Establishing gear specific commercial quotas was intended to help ensure that fishermen fishing with each gear type have a fair and equitable allocation of the commercial quota.

At the time the golden tilefish longline endorsement and gear-specific quotas were established, the Council did not intend for longline endorsement holders to fish on the 500-lb (227-kg) gutted weight hook-and-line quota, or for non-endorsement holders to fish on the longline quota. NMFS and the Council are aware that, since Amendment 18B was implemented, some longline endorsement holders are transferring their golden tilefish longline endorsement to another vessel to then fish for golden tilefish using hook-and-line gear. Other longline endorsement holders are renewing their Federal commercial snapper-grouper vessel permit but waiting to renew their golden tilefish longline endorsement so that they are able to fish for golden tilefish using hook-and-line gear while their longline endorsement is not valid. Neither scenario is consistent with the intent of the Council in Amendment 18B. Therefore, the Council determined that they should clarify their intent and request NMFS modify the regulations for golden tilefish endorsement holders. Currently, the regulations state, “vessels with a golden tilefish longline endorsement are not eligible to fish for golden tilefish using hook-and-line gear under this 500-lb (227-kg), gutted weight, trip limit.” (50 CFR 622.191(a)(2)(ii)). Amendment 35 and implementing regulations would clarify that “vessels that have valid or renewable golden tilefish longline endorsements anytime during the fishing year, are not eligible to fish for golden tilefish using hook-and-line gear under this 500-lb (227-kg) trip limit.” Thus, a fisherman who owns a vessel with a valid or renewable golden tilefish longline endorsement would not be eligible to fish for golden tilefish using hook-and-line gear under the 500-lb (227-kg), gutted weight, hook-and-line trip limit, during that fishing year.

A proposed rule that would implement measures outlined in Amendment 35 has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

The Council has submitted Amendment 35 for Secretarial review, approval, and implementation. Comments received by April 5, 2016, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: February 2, 2016.
Emily H. Menashes,
Acting Director, Office of Sustainable Fisheries, National Marine Fisheries Service.

[FR Doc. 2016-02271 Filed 2-4-16; 8:45 am]

BILLING CODE 3510-22-P